DEPARTMENT OF COMMERCE

International Trade Administration

[A-549-502]

Extension of Time Limit for Final Results of Antidumping Duty Administrative Review: Circular Welded Carbon Steel Pipes and Tubes From Thailand

AGENCY: Import Administration, International Trade Administration, Department of Commerce.

Effective Date: August 3, 2006.

FOR FURTHER INFORMATION CONTACT: Jacqueline Arrowsmith or Myrna Lobo, AD/CVD Operations, Office 6, Import Administration, International Trade Administration, U.S. Department of Commerce, 14th Street and Constitution Avenue, NW., Washington, DC 20230; telephone: (202) 482-5255 or (202) 482-2371, respectively.

Background

On April 7, 2006, the Department published in the Federal Register the preliminary results of the administrative review of the antidumping duty order on circular carbon steel welded pipes and tubes from Thailand. See Circular Welded Carbon Steel Pipes and Tubes from Thailand: Preliminary Results of Antidumping Duty Administrative Review, 71 FR 17810 (April 7, 2006). The current deadline for the final results of this review is August 7, 2006.

Extension of Time Limit for Final Results of Review

Section 751(a)(3)(A) of the Tariff Act of 1930, as amended (the Act) requires the Department to issue the final results in an administrative review within 120 days after the date on which the preliminary results were published. However, if it is not practicable to complete the review within this time period, section 751(a)(3)(A) of the Act allows the Department to extend the time limit for the final results to 180 days from the date of publication of the preliminary results.

The Department finds that it is not practicable to complete the review within the original time frame due to the complex nature of the case. As this case involves complex issues related to Saha Thai's claim that its sales are made at more than one level of trade, and the Department must consider information requested and received after the issuance of the preliminary results, completion of this review is not practicable within the original time limit of August 7, 2006. Consequently, in accordance with section 751(a)(3)(A) of the Act and section 351.213(h)(2) of the Department's regulations, the Department is extending the time limit for the completion of the final results of the review until no later than September 7, 2006, which is within 180 days from the publication of the preliminary results.

This notice is issued and published in accordance with sections 751(a)(3)(A) and 777(i)(1) of the Act.

Dated: July 28, 2006.
Stephen J. Claeys,
Deputy Assistant Secretary for Import Administration.

[FR Doc. E6-12552 Filed 8-2-06; 8:45 am]

BILLING CODE 3510-DS-P